ENVIRONMENTAL PROTECTION AGENCY

[EPA-HQ-OPP-2021-0015; FRL-10019-58]

Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. In a previous notice, FRL-10009-98, which posted on June 5, 2020; the agency stated it was holding the registration 3573-73, for further review of the comment received regarding the cancellation of the product; the proposed P&G cancellation has been withdrawn. If these requests are granted, any sale, distribution, or use of products listed in this notice will be permitted after the registrations have been cancelled only if such sale, distribution, or use is consistent with the terms as described in the final order.

DATES: Comments must be received on or before March 19, 2021.

ADDRESSES: Submit your comments, identified by docket identification (ID) number EPA-HQ-OPP-2021-0015, by one of the following methods:

Federal eRulemaking Portal: http://www.regulations.gov. Follow the online instructions for submitting comments. Do not submit electronically any information you consider to be Confidential Business Information (CBI) or other information whose disclosure is restricted by statute.

Mail: OPP Docket, Environmental Protection Agency Docket Center (EPA/DC), (28221T), 1200 Pennsylvania Ave. NW, Washington, DC 20460-0001. Christopher Green, Registration Division (7502P), Office of Pesticide Programs, Environmental Protection Agency, 1200 Pennsylvania Ave. NW, Washington, DC 20460-0001. ATTN: Christopher Green.

Hand Delivery: To make special arrangements for hand delivery or delivery of boxed information, please follow the instructions at http://www.epa.gov/dockets/contacts.html.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Christopher Green, Registration Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by EPA of requests from registrants to cancel certain pesticide products registered under FIFRA section 3 (7 U.S.C. 136a) or 24(c) (7 U.S.C. 136v(c)). The affected products and the registrants making the requests are identified in Tables 1-2 of this unit.

Unless a request is withdrawn by the registrant or if the Agency determines that there are substantive comments that warrant further review of this request, EPA intends to issue an order in the Federal Register canceling the affected registrations.

Table 1—Product Registrations With Pending Requests for Cancellation
Registration No. | Company No. | Product name | Active ingredients
228-180 | 228 | Riverdale 3-Way Weed and Feed with Triamine | MCPP-P, DMA salt; 2,4-DP-p, DMA salt & 2,4-D, dimethylamine salt.
228-184 | 228 | Riverdale Sweet Sixteen Weed and Feed with Triamine | MCPP-P, DMA salt; 2,4-DP-p, DMA salt & 2,4-D, dimethylamine salt.
228-210 | 228 | Triamine Premium Liquid Weed & Feed | 2,4-DP-p, DMA salt; 2,4-D, dimethylamine salt & MCPP-P, DMA salt.
228-211 | 228 | Triamine 3-Way Lawn Weed Killer | 2,4-DP-p, DMA salt; 2,4-D, dimethylamine salt & MCPP-P, DMA salt.
228-269 | 228 | Sweet Sixteen Weed and Feed with Tri-Power (R) | Dicamba, dimethylamine salt; MCPA, dimethylamine salt & MCPP-P, DMA salt.
228-270 | 228 | Riverdale Tri-Power (R) Weed and Feed | Dicamba, dimethylamine salt; MCPA, dimethylamine salt & MCPP-P, DMA salt.
228-271 | 228 | Riverdale Tri-Power (R) Lawn Weed Killer | Dicamba, dimethylamine salt; MCPA, dimethylamine salt & MCPP-P, DMA salt.
228-272 | 228 | Riverdale Tri-Power (R) Spot Weed Killer | Dicamba, dimethylamine salt; MCPA, dimethylamine salt & MCPP-P, DMA salt.
228-276 | 228 | Riverdale Tri-Power (R) Liquid Weed and Feed | Dicamba, dimethylamine salt; MCPA, dimethylamine salt & MCPP-P, DMA salt.
228-277 | 228 | Tri-Power Premium Liquid Weed and Feed | Dicamba, dimethylamine salt; MCPA, dimethylamine salt & MCPP-P, DMA salt.
228-278 | 228 | Riverdale Triamine Premium Granular Weed Killer | 2,4-DP-p, DMA salt; 2,4-D, dimethylamine salt & MCPP-P, DMA salt.
228-284 | 228 | Tri-Power (R) Jet-Spray Spot Weed Killer | Dicamba, dimethylamine salt; MCPA, dimethylamine salt & MCPP-P, DMA salt.
228-286 | 228 | Riverdale Tri-Power L.A. Weed and Feed | Dicamba, dimethylamine salt; MCPA, dimethylamine salt & MCPP-P, DMA salt.
228-288 | 228 | Riverdale Triplet (R) Sensitive | MCPP-P, DMA salt; Dicamba, dimethylamine salt & 2,4-D, dimethylamine salt.
228-293 | 228 | Riverdale Dissolve (R) 4000 Weed and Feed | Dimethylamine 2-(2,4-dichlorophenoxy)propionate; 2,4-DP-p, DMA salt & MCPP-P, DMA salt.
228-302 | 228 | Riverdale Triplet (R) L.A. Selective Herbicide | Dicamba, dimethylamine salt; MCPP-P, DMA salt & 2,4-D, dimethylamine salt.
228-303 | 228 | Tri-Power (R) Granular Weed Killer | MCPA, dimethylamine salt; Dicamba, dimethylamine salt & MCPP-P, DMA salt.
228-304 | 228 | 3-Way Weed and Feed with Tri-Power (R) | MCPA, dimethylamine salt; Dicamba, dimethylamine salt & MCPP-P, DMA salt.
228-305 | 228 | Riverdale Dissolve (R) Granular Weed Killer | MCPP-P, DMA salt; 2,4-DP-p, DMA salt & 2,4-D, dimethylamine salt.
228-311 | 228 | Riverdale Triplet Hi-D Selective Herbicide | MCPP-P, DMA salt; Dicamba, dimethylamine salt & 2,4-D, dimethylamine salt.
228-342 | 228 | Dissolve Premium Granular Weed Killer | Dimethylamine 2-(2,4-dichlorophenoxy)propionate; 2,4-DP-p, DMA salt & MCPP-P, DMA salt.
228-348 | 228 | Dissolve LBN Weed and Feed | 2,4-D, dimethylamine salt; 2,4-DP-p, DMA salt & MCPP-P, DMA salt.
228-372 | 228 | Eclipse Selective Herbicide | 2,4-DP-p, DMA salt; MCPA, dimethylamine salt & Clopyralid, monoethanolamine salt.
228-489 | 228 | Triplet Low Odor Premium Lawn Weed Killer Concentrate | Dicamba; 2,4-D, triisopropanolamine salt & MCPP-P, DMA salt.
228-490 | 228 | Triplet Low Odor Premium Weed and Feed | Dicamba; 2,4-D, triisopropanolamine salt & MCPP-P, DMA salt.
228-492 | 228 | Triplet Low Odor Premium Granular Weed Killer | Dicamba; 2,4-D, triisopropanolamine salt & MCPP-P, DMA salt.
228-493 | 228 | Triplet Low Odor L.A. Granular Weed Killer | Dicamba; 2,4-D, triisopropanolamine salt & MCPP-P, DMA salt.
228- 503 | 228 | Triplet Low Odor Premium Weed and Feed (18/5) | Dicamba; MCPP-P, DMA salt & 2,4-D, triisopropanolamine salt.
228-504 | 228 | Triplet Low Odor Premium Weed and Feed (20/5) | Dicamba; MCPP-P, DMA salt & 2,4-D, triisopropanolamine salt.
228-505 | 228 | Triplet Low Odor L.A. Premium Weed and Feed (16/5) | Dicamba; MCPP-P, DMA salt & 2,4-D, triisopropanolamine salt.
228-506 | 228 | Triplet Low Odor L.A. Premium Weed and Feed (18/5) | Dicamba; MCPP-P, DMA salt & 2,4-D, triisopropanolamine salt.
228-507 | 228 | Triplet Low Odor L.A. Premium Weed and Feed (20/5) | Dicamba; MCPP-P, DMA salt & 2,4-D, triisopropanolamine salt.
228-508 | 228 | Triplet Low Odor Premium 8000 Lawn Weed Killer Concentrate | Dicamba; 2,4-D, triisopropanolamine salt & MCPP-P, DMA salt.
228-511 | 228 | Triplet Low Odor Premium Spot Lawn Weed Killer Ready-To-Spray | Dicamba; 2,4-D, triisopropanolamine salt & MCPP-P, DMA salt.
228-593 | 228 | NUP-08041 Ready-To-Use | Pyraflufen-ethyl; Dicamba; MCPP-P, DMA salt & 2,4-D, 2-ethylhexyl ester.
228-712 | 228 | NUP-08040 Premium 8000 Lawn Weed Killer Concentrate | Pyraflufen-ethyl; Dicamba; MCPP-P, DMA salt & Isooctyl(2-ethyl-4-methylpentyl) 2,4-dichlorophenoxyacetate.
279-3083 | 279 | Pounce WSB Insecticide | Permethrin.
478-114 | 478 | Real-Kill Vegetation Killer | Diquat dibromide.
499-567 | 499 | Tygro Mite Fogger | Etoxazole.
538-168 | 538 | Scotts Improved Super Turf Builder Plus 2 | 2,4-D & Mecoprop-P.
961-422 | 961 | Preen Landscape Mulch Plus 3 | Bifenthrin; Trifluralin & Isoxaben.
1007-99 | 1007 | Nolvasan Solution | Chlorhexidine diacetate.
1007-100 | 1007 | Fort Dodge Nolvasan S | Chlorhexidine diacetate.
1007-101 | 1007 | Chlorhexidine Diacetate | Chlorhexidine diacetate.
5481-597 | 5481 | Scepter Herbicide | 3-Quinolinecarboxylic acid, 2-(4,5-dihydro-4-methyl-4-(1-methylethyl)-5-oxo-1H-imidazol-2-yl)-, monoammonium salt.
5481-598 | 5481 | Scepter Herbicide Contains Surfactant | 3-Quinolinecarboxylic acid, 2-(4,5-dihydro-4-methyl-4-(1-methylethyl)-5-oxo-1H-imidazol-2-yl)-, monoammonium salt.
5481-601 | 5481 | Timeout Grass Growth Regulator and Weed Killer | 3-Quinolinecarboxylic acid, 2-(4,5-dihydro-4-methyl-4-(1-methylethyl)-5-oxo-1H-imidazol-2-yl)-, monoammonium salt.
5481-603 | 5481 | Time Out Plus Herbicide | 3-Quinolinecarboxylic acid, 2-(4,5-dihydro-4-methyl-4-(1-methylethyl)-5-oxo-1H-imidazol-2-yl)-, monoammonium salt.
5481-604 | 5481 | Imazaquin/Imazethapyr DG | Imazethapyr & Imazaquin.
5481-606 | 5481 | Backdraft Herbicide | Glyphosate-isopropylammonium &Imazaquin.
5481-607 | 5481 | Backdraft CP Herbicide | Imazaquin.
5481-608 | 5481 | Backdraft SL Herbicide | Glyphosate-isopropylammonium & Imazaquin.
7969-268 | 7969 | Acronis Fungicide Seed Treatment | Pyraclostrobin & Thiophanate-methyl.
7969-352 | 7969 | Xemium 703 Fungicide ST | Fluxapyroxad & Pyraclostrobin.
7969-379 | 7969 | Priaxor Plus Fungicide | Cyproconazole; Pyraclostrobin & Fluxapyroxad.
9688-93 | 9688 | Chemsico Grass & Weed Killer A | Diquat dibromide.
9688-188 | 9688 | Chemsico Herbicide Concentrate DG | Diquat dibromide & Glyphosate-isopropylammonium.
9688-191 | 9688 | Chemsico Herbicide DG RTU | Diquat dibromide & Glyphosate-isopropylammonium.
9688-205 | 9688 | Chemsico Herbicide Concentrate DG II | Glyphosate-isopropylammonium & Diquat dibromide.
9688-211 | 9688 | Chemsico Herbicide Concentrate DT | Glyphosate & Diquat dibromide.
9688-213 | 9688 | Chemsico Herbicide RTU DT | Diquat dibromide & Glyphosate.
9688-278 | 9688 | Chemisco Herbicide Concentrate 1455 | Sulfentrazone; Dicamba, dimethylamine salt; MCPP-P, DMA salt & MCPA, dimethylamine salt.
9688-279 | 9688 | Chemisco RTU Herbicide 1456 | Sulfentrazone; Dicamba, dimethylamine salt; MCPP-P, DMA salt & MCPA, dimethylamine salt.
9688-283 | 9688 | Herbicide Concentrate 4B | Fluazifop-P-butyl; Dicamba, dimethylamine salt; Oxyfluorfen & Diquat dibromide.
9688-284 | 9688 | Chemsico Herbicide RTU 4B | Diquat dibromide; Fluazifop-P-butyl; Dicamba, dimethylamine salt & Oxyfluorfen.
9688-289 | 9688 | Chemsico Pesticide Concentrate WI-N | 2,4-D, dimethylamine salt; MCPP-P, DMA salt; Dicamba, dimethylamine salt & gamma-Cyhalothrin.
9688-290 | 9688 | Chemsico Pesticide Concentrate WI-S | gamma-Cyhalothrin; Dicamba, dimethylamine salt; 2,4-D, dimethylamine salt & MCPP-P, DMA salt.
9688-310 | 9688 | Chemsico Pesticide Granules WI-N | Dicamba, dimethylamine salt; MCPP-P, DMA salt; 2,4-D, dimethylamine salt & gamma-Cyhalothrin.
9688-311 | 9688 | Chemsico Pesticide Granules WI-S | Dicamba, dimethylamine salt; MCPP-P, DMA salt; 2,4-D, dimethylamine salt & gamma-Cyhalothrin.
10324-57 | 10324 | Maquat 42 | Alkyl* dimethyl benzyl ammonium chloride *(60%C14, 30%C16, 5%C18, 5%C12) & Alkyl* dimethyl ethylbenzyl ammonium chloride *(68%C12, 32%C14).
10324-71 | 10324 | Maquat 280 | Alkyl* dimethyl benzyl ammonium chloride *(60%C14, 30%C16, 5%C18, 5%C12) & Alkyl* dimethyl ethylbenzyl ammonium chloride *(68%C12, 32%C14).
10324-158 | 10324 | Maquat 2420 TBD-9 | Alkyl* dimethyl benzyl ammonium chloride *(50%C14, 40%C12, 10%C16) & 1-Decanaminium, N-decyl-N,N-dimethyl-, chloride.
10324-160 | 10324 | Maquat 2420 TNT | Alkyl* dimethyl benzyl ammonium chloride *(50%C14, 40%C12, 10%C16) & 1-Decanaminium, N-decyl-N,N-dimethyl-, chloride.
10324-164 | 10324 | Maquat 256 PD | Alkyl* dimethyl ethylbenzyl ammonium chloride *(68%C12, 32%C14) & Alkyl* dimethyl benzyl ammonium chloride *(60%C14, 30%C16, 5%C18, 5%C12).
10324-176 | 10324 | Maquat 2420 TBD-20 | Alkyl* dimethyl benzyl ammonium chloride *(50%C14, 40%C12, 10%C16); 1-Decanaminium, N-decyl-N,N-dimethyl-, chloride & Hydrochloric acid.
15440-31 | 15440 | Marks Mecoprop-P DMA 600 | MCPP-P, DMA salt.
34704-927 | 34704 | Chaser Ultra 2 Selective Herbicide | 2,4-DP-p, DMA salt; Fluroxypyr-meptyl & MCPA, dimethylamine salt.
42750-354 | 42750 | Cloransulam 84% WDG | Cloransulam-methyl.
42750-355 | 42750 | Cloransulam + Sulfentrazone WDG | Cloransulam-methyl & Sulfentrazone.
42750-356 | 42750 | Cloransulam-methyl Technical | Cloransulam-methyl.
46515-16 | 46515 | Super K-Gro Vegetation Killer Formula II | Diquat dibromide.
46515-32 | 46515 | Super K-Gro All Purpose Garden Spray | Esfenvalerate.
47000-170 | 47000 | Sureco Permethrin RTU Spray | Permethrin.
61282-54 | 61282 | Bioguard GP Disinfectant Sanitizer | Alkyl* dimethyl benzyl ammonium chloride *(50%C14, 40%C12, 10%C16).
70596-9 | 70596 | Mecoprop-P-DMA 600G/L MP | MCPP-P, DMA salt.
72726-1 | 72726 | Poridon | Piperonyl butoxide & Permethrin.
ID-070001 | 10163 | Onager Miticide | Hexythiazox.
ID-080013 | 10163 | Onager Miticide | Hexythiazox.
MS-090005 | 279 | Dragnet SFR Insecticide | Permethrin.
SC-080002 | 5905 | Pounce 3.2 EC Insecticide | Permethrin.

Table 2 of this unit includes the names and addresses of record for all registrants of the products in Table 1 of this unit, in sequence by EPA company number. This number corresponds to the first part of the EPA registration numbers of the products listed in Table 1 of this unit.

Table 2—Registrants Requesting Voluntary Cancellation
EPA company No. | Company name and address
228 | NuFarm Americas, Inc., 4020 Aerial Center Pkwy., Ste. 101, Morrisville, NC 27560.
279 | FMC Corporation, 2929 Walnut Street, Philadelphia, PA 19104.
478 | Realex, Div. of United Industries Corp., P.O. Box 142642, St. Louis, MO 63114-0642.
499 | BASF Corporation, 26 Davis Drive, P.O. Box 13528, Research Triangle Park, NC 27709-3528.
538 | Scotts Company, The, 14111 Scottslawn Road, Marysville, OH 43041.
961 | Lebanon Seaboard Corporation, 1600 East Cumberland Street, Lebanon, PA 17042.
1007 | Zoetis, Inc., 333 Portage Street, Kalamazoo, MI 49007-4931.
5481 | AMVAC Chemical Corporation, 4695 MacArthur Court, Suite 1200, Newport Beach, CA 92660-1706.
5905 | Helena Agri-Enterprises, LLC, D/B/A Helena Chemical Comp., 225 Schilling Blvd., Suite 300, Collierville, TN 38017.
7969 | BASF Corporation, 26 Davis Drive, P.O. Box 13528, Research Triangle Park, NC 27709-3528.
9688 | Chemsico, A Division of United Industries Corp., P.O. Box 142642, St. Louis, MO 63114-0642.
10163 | BASF Corporation, 26 Davis Drive, P.O. Box 13528, Research Triangle Park, NC 27709-3528.
10324 | Mason Chemical Company, 9075 Centre Pointe Dr., Suite 400, West Chester, OH 45069.
15440 | NuFarm Limited, 4020 Aerial Center Pkwy., Suite 101, Morrisville, NC 27560.
34704 | Loveland Products, Inc., P.O. Box 1286, Greeley, CO 80632-1286.
42750 | Albaugh, LLC, 1525 NE 36th Street, Ankeny, IA 50021.
46515 | Celex, Division of United Industries Corp., P.O. Box 142642, St. Louis, MO 63114-0642.
47000 | Chem-Tech, Ltd., 620 Lesher Place, Lansing, MI 48912.
61282 | Hacco, Inc., 620 Lesher Place, Lansing, MI 48912.
70596 | NuFarm Americas, Inc., 4020 Aerial Center Pkwy., Suite 101, Morrisville, NC 27560.
72726 | Neogen Corporation, 620 Lesher Place, Lansing, MI 48912.

III. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants listed in Table 2 of Unit II have requested that EPA waive the 180-day comment period. Accordingly, EPA will provide a 30-day comment period on the proposed requests.

IV. Procedures for Withdrawal of Request

Registrants who choose to withdraw a request for product cancellation should submit the withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action.

In any order issued in response to these requests for cancellation of product registrations EPA proposes to include the following provisions for the treatment of any existing stocks of the products listed in Table 1 of Unit II.

A. For products 1007-99, 1007-100 and 1007-101. For products 1007-99, 1007-100 and 1007-101, the registrant has requested to sell its existing stocks of Chlorhexidine diacetate containing pesticides until May 31, 2021, the registrants will be permitted to sell and distribute existing stocks of these voluntarily canceled products until May 31, 2021. Thereafter, registrants will be prohibited from selling or distributing the identified products in Table 1 of Unit II, except for export consistent with FIFRA section 17 (7 U.S.C. 136o) or for proper disposal.

B. For products 10324-57, 10324-71, 10324-158, 10324-160, 10324-164, 10324-176. For products 10324-57, 10324-71, 10324-158, 10324-160, 10324-164, 10324-176, the registrant has requested 18-months to sell existing stocks, registrants will be permitted to sell and distribute existing stocks of these voluntarily canceled products for 18-months after the effective date of the cancellation, which will be the date of publication of this cancellation order in the Federal Register. Thereafter, registrants will be prohibited from selling or distributing these products identified in Table 1 of Unit II, except for export consistent with FIFRA section 17 (7 U.S.C. 136o) or for proper disposal.

C. For product 61282-54. For product 61282-54, the registrant has requested 13-months to sell existing stocks, registrants will be permitted to sell and distribute existing stocks of the voluntarily canceled product for 13-months after the effective date of the cancellation, which will be the date of publication of this cancellation order in the Federal Register. Thereafter, registrants will be prohibited from selling or distributing these products identified in Table 1 of Unit II, except for export consistent with FIFRA section 17 (7 U.S.C. 136o) or for proper disposal.

For all other voluntary product cancellations, identified in Table 1 of Unit II, registrants will be permitted to sell and distribute existing stocks of the voluntarily canceled products for 1 year after the effective date of the cancellation, which will be the date of publication of the cancellation order in the Federal Register. Thereafter, registrants will be prohibited from selling or distributing all other products identified in Table 1 of Unit II, except for export consistent with FIFRA section 17 (7 U.S.C. 136o) or for proper disposal.

Persons other than the registrant may sell, distribute, or use existing stocks of the canceled products until supplies are exhausted, provided that such sale, distribution, or use is consistent with the terms of the previously approved labeling on, or that accompanied, the canceled products.

Authority: 7 U.S.C. 136 et seq.

Dated: February 4, 2021.
Marietta Echeverria,
Acting Director, Registration Division, Office of Pesticide Programs.

[FR Doc. 2021-03175 Filed 2-16-21; 8:45 am]

BILLING CODE 6560-50-P